DEPARTMENT OF ENERGY

Federal Energy Regulatory Commission

Combined Notice of Filings #2

Take notice that the Commission received the following electric rate filings:

Docket Numbers: ER17-1138-002.

Applicants: PJM Interconnection, L.L.C.

Description: Compliance filing: Compliance Filing Pursuant to the Nov. 17, 2017 Order in Docket No. ER17-1138 to be effective 5/9/2017.

Filed Date: 12/15/17.

Accession Number: 20171215-5111.

Comments Due: 5 p.m. ET 1/5/18.

Docket Numbers: ER17-1864-001.

Applicants: Bayshore Solar A, LLC.

Description: Compliance filing: Bayshore Solar A LLC MBR Tariff to be effective 8/19/2017.

Filed Date: 12/15/17.

Accession Number: 20171215-5073.

Comments Due: 5 p.m. ET 1/5/18.

Docket Numbers: ER17-1909-001.

Applicants: Bayshore Solar C, LLC.

Description: Compliance filing: Bayshore Solar C LLC MBR Tariff to be effective 8/26/2017.

Filed Date: 12/15/17.

Accession Number: 20171215-5072.

Comments Due: 5 p.m. ET 1/5/18.

Docket Numbers: ER18-458-000.

Applicants: Midcontinent Independent System Operator, Inc., Ameren Illinois Company.

Description: § 205(d) Rate Filing: 2017-12-15_SA 2880 Attachment A Project Specs No. 2 (Ameren-Wabash Valley UCA) to be effective 11/30/2017.

Filed Date: 12/15/17.

Accession Number: 20171215-5103.

Comments Due: 5 p.m. ET 1/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2017.
Nathaniel J. Davis, Sr.,
Deputy Secretary.

[FR Doc. 2017-27493 Filed 12-20-17; 8:45 am]

BILLING CODE 6717-01-P